COMMISSION ON CIVIL RIGHTS

Sunshine Act Meeting

AGENCY: United States Commission on Civil Rights.

ACTION: Notice of Commission Field Briefing

DATES: Date and Time: Friday, October 17, 2014; 9:00 a.m. EDT.

ADDRESSES: Place: Rosen Plaza Hotel, The Grand Ballroom, 9700 International Drive, Orlando, Florida 32819.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

BRIEFING AGENDA—9:00 a.m.-3:30 p.m.

This briefing is open to the public.

Topic: Stand Your Ground Laws and Its Impact

I. Introductory Remarks by Chairman Castro

II. Issue Panel I—9:05 a.m.-10:45 a.m.: SYG laws and its impact

Speakers' Remarks and Questions from Commissioners

III. Issue Panel II—10:45 a.m.-12:25 p.m.: Data Collection: What we have and what we need

Speakers' Remarks and Questions from Commissioners

IV. LUNCH—12:30 p.m.-1:30 p.m.

V. Issue Panel IV—1:35 p.m.-3:10 p.m.: SYG: Pros and Cons

Speakers' Remarks and Questions from Commissioners

VI. Adjourn Briefing

Dated: October 7, 2014.
Marlene Sallo,
Staff Director.

[FR Doc. 2014-24210 Filed 10-7-14; 11:15 am]

BILLING CODE 6335-01-P